DEPARTMENT OF THE INTERIOR

Fish and Wildlife Service

Receipt of an Application for an Incidental Take Permit for Road Improvement in Perry County, Mississippi

AGENCY: Fish and Wildlife Service, Interior.

ACTION: Notice.

SUMMARY: The Perry County Board of Supervisors (Applicant) has made an application for an incidental take permit (ITP) from the Fish and Wildlife Service (Service) pursuant to Section 10(a)(1)(B) of the Endangered Species Act of 1973 (16 U.S.C. 1531 et seq.), as amended. The proposed permit would allow take of the gopher tortoise (Gopherus polyphemus), a federally listed threatened species, incidental to surfacing a 0.25-mile section of dirt road with gravel. The permit would authorize take of up to two gopher tortoises. As described in the Applicant's habitat conservation plan (HCP), impacts will be minimized and mitigated by relocating the tortoises from their burrows along the edge of the road to adjacent burrows within the tortoise colony. The habitat conservation plan is further described in the SUPPLEMENTARY INFORMATION section below. The Service has determined that the Applicant's proposal, including the proposed mitigation and minimization measures, will individually and cumulatively have a minor or negligible effect on the species covered in the HCP. Therefore, the ITP is a “low effect” project and would qualify as a categorical exclusion under the National Environmental Policy Act (NEPA), as provided by the Department of Interior Manual (516 DM2, Appendix 1 and 516 DM 6, Appendix 1).

The Service announces the availability of the HCP for the incidental take application. Copies of the HCP may be obtained by making a request to the Regional Office (see ADDRESSES). Requests must be in writing to be processed. This notice is provided pursuant to Section 10 of the Endangered Species Act and NEPA regulations (40 CFR 1506.6).

The Service specifically requests information, views, and opinions from the public via this Notice on the Federal action. Further, the Service specifically solicits information regarding the adequacy of the HCP as measured against the Service's Permit issuance criteria found in 50 CFR Parts 13 and 17.

We specifically request information, views, and opinions from the public via this Notice on the Federal action. Further, we specifically solicit information regarding the adequacy of the Plan as measured against the Service's Permit issuance criteria found in 50 CFR Parts 13 and 17.

If you wish to comment, you may submit comments by any one of several methods. Please reference permit number TE026748-0 in such comments. You may mail comments to the Service's Regional Office (see ADDRESSES). You may also comment via the internet to “david_dell@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not; however, consider anonymous comments. We will make all submissions from organizations or businesses, and from individuals identifying themselves as representatives or officials of organizations or businesses, available for public inspection in their entirety.

DATES: Written comments on the permit application and HCP should be sent to the Service's Regional Office (see ADDRESSES) and should be received on or before November 1, 2000

ADDRESSES: Persons wishing to review the application, HCP, and supporting documentation may obtain a copy by writing the Service's Southeast Regional Office, Atlanta, Georgia. Documents will also be available for public inspection by appointment during normal business hours at the Regional Office, 1875 Century Boulevard, Suite 200, Atlanta, Georgia 30345 (Attn: Endangered Species Permits), or Jackson Field Office, 6578 Dogwood View Parkway, Jackson, Mississippi, 39213 (Attn: Will McDearman). Written data or comments concerning the application, HCP, or supporting documents should be submitted to the Regional Office. Requests for the documentation must be in writing to be processed. Please reference permit number TE026748-0 in requests for the documents discussed herein.

FOR FURTHER INFORMATION CONTACT: Mr. David Dell, Regional Permit Coordinator, (see ADDRESSES above), telephone: 404/679-7313; or Mr. Will McDearman, Fish and Wildlife Biologist, Jackson Field Office, (see ADDRESSES above), telephone 601/321-1124.

SUPPLEMENTARY INFORMATION: The gopher tortoise was listed in 1987 as a threatened species in the western part of its geographic range, west of the Tombigbee and Mobile Rivers in Alabama, Mississippi and Louisiana. The gopher tortoise is a burrowing animal that historically inhabited fire-maintained longleaf pine communities on moderately well drained to xeric soils in the Coastal Plain. These longleaf pine communities consisted of relatively open forests, without a closed overstory, with a well developed herbaceous plant layer of grasses and forbs. About 80% of the original habitat for gopher tortoises was lost at the time the species was listed due to the conversion to urban and agricultural land use. On remaining forests, management practices converting longleaf pine to densely planted pine stands for pulpwood production, fire exclusion, and infrequently prescribed fire further reduced the open forest with grasses and forbs tortoises need for burrowing, nesting, and feeding. Over 22,000 gopher tortoises have been estimated to occur in the listed range. The tortoise, however, is a long-lived animal with low reproductive rates. Remaining populations, though relatively widespread, are individually small, fragmented, and usually in poor habitat without adequate reproduction for a self-sustaining viable population.

Under section 9 of the Act and its implementing regulations, “taking” of endangered and threatened wildlife is prohibited. However, the Service, under limited circumstances, may issue permits to take such wildlife if the taking is incidental to and not the purpose of otherwise lawful activities. The Applicant has prepared an HCP as required for the incidental take permit application. The Applicant intends to open a dead-end road by extending it about 0.25 mile to another intersection. The extension is over an existing dirt road that will be surfaced with gravel. Two gopher tortoise burrows are located on the edge of the dirt road. Surveys by the Applicant and Service found that one of these burrows was inhabited by a tortoise. The operation of heavy equipment for surfacing the road can collapse these burrows, entombing and killing or injuring tortoises. The biological goal of the plan is to avoid such harm or injury to these tortoises and to retaining them within the existing the gopher tortoise colony. To avoid, minimize and mitigate impacts, the Applicant will capture and relocate up to two tortoises in these two burrows to adjacent unoccupied but suitable burrows located about 200 feet from the road. The tortoises at the edge of the road are part of a small colony of five tortoises inhabiting privately owned property adjoining the west side of the road. Thus, tortoises will be moved to other burrows within their existing colony and population. The permit will authorize incidental take associated with the capture and relocation of two tortoises. Upon relocation, the burrows on the road edge will be collapsed or blocked to prevent habitation from any tortoises. To monitor the biological effect of the HCP, the Applicant will track relocated tortoises using radio-telemetry until the over-wintering period of 2000.

As earlier stated, the Service has determined that the HCP qualifies as a Categorically-Excluded, “low-effect” HCP as defined by the Service's Habitat Conservation Planning Handbook. Low-effect HCPs are those involving: (1) Minor or negligible effects on federally listed and candidate species and their habitats, and (2) minor or negligible effects on other environmental values or resources. The Applicant's HCP qualifies for the following reasons:

1. Approval of the HCP would result in minor or negligible effects on the gopher tortoise and its habitat. We do not anticipate significant direct or cumulative effects on this species as a result of this project.

2. Approval of the HCP would not have adverse effects on known geographic, historic or cultural sites, or involve unique or unknown environmental risks.

3. Approval of the HCP would not result in any significant adverse effects on public health or safety.

4. The project does not require compliance with Executive Order 11988 (Floodplain Management), Executive Order 11990 (Protection of Wetlands), or the Fish and Wildlife Coordination Act, nor does it threaten to violate a Federal, State, local, or tribal law or requirement imposed for protection of the environment.

5. Approval of the HCP would not establish a precedent for future action or represent a decision in principle about future actions with potentially significant environmental effects.

The Service has therefore determined that approval of the HCP qualifies as a categorical exclusion under NEPA, as provided by the Department of the Interior Manual (516 DM 2, Appendix 1 and 516 DM 6, Appendix 1). No further NEPA determination will therefore be prepared.

The Service will evaluate the HCP and comments submitted thereon to determine whether the application meets the requirements of Section 10(a) of the Act. If it is determined that those requirements are met, an ITP will be issued for the incidental take of one family of Florida scrub-jay. The Service will also evaluate whether the issuance of a Section 10(a)(1)(B) ITP complies with Section 7 of the Act by conducting an intra-Service Section 7 consultation. The results of the consultation, in combination with the above findings, will be used in the final analysis to determine whether or not to issue the ITP.

Dated: September 25, 2000.
H. Dale Hall,
Acting Regional Director.

[FR Doc. 00-25146 Filed 9-29-00; 8:45 am]

BILLING CODE 4310-55-P